DEPARTMENT OF DEFENSE

Department of the Army; Corps of Engineers

Availability of a Final Environmental Impact Statement To Consider Issuance of a Department of the Army Permit Pursuant to Section 404 of the Clean Water Act for Aluminum Company of America (Alcoa) Inc.'s Proposal To Construct and Operate Three Oaks Mine in Lee and Bastrop Counties, TX

AGENCY: Department of the Army, U.S. Army Corps of Engineers, DoD.

ACTION: Notice of availability.

SUMMARY: In accordance with the requirements of the National Environmental Policy Act (NEPA), the U.S. Army Corps of Engineers (USACE) Fort Worth District has prepared a Final Environmental Impact Statement (FEIS). This FEIS evaluates potential impacts to the natural, physical and human environment as a result of the proposed mining activities associated with Aluminum Company of America (Alcoa) Inc.'s proposed Three Oaks Mine. The USACE regulates this proposed project pursuant to Section 404 of the Clean Water Act. The proposed activity would involve the discharge of dredged and fill material into waters of the United States associated with the proposed construction and operation of a surface lignite mine. The document was prepared following a public review and 74-day comment period on the Draft Environmental Impact Statement (DEIS), during which time a public information meeting was held on October 1, 2002, and a public hearing was held on October 2, 2002. Both meetings were held in Elgin, Bastrop County, Texas.

DATES: Submit comments by June 23, 2003.

ADDRESSES: Send written comments and suggestions concerning this proposal to Ms. Jennifer Walker, Regulatory Project Manager, Regulatory Branch, CESWF-PER-R, U.S. Army Corps of Engineers, Fort Worth District, P.O. Box 17300, Fort Worth, TX 76102-0300 or via e-mail: 3oakseis@swf02.usace.army.mil. Requests to be placed on the mailing list should also be sent to this address.

FOR FURTHER INFORMATION CONTACT: Ms. Jennifer Walker, Regulatory Project Manager at (817) 886-1733 or via e-mail: 3oakseis@swf02.usace.army.mil.

SUPPLEMENTARY INFORMATION: Discharges of dredged or fill material into waters of the United States are regulated by the USACE under Section 404 of the Clean Water Act. Alcoa must also address the proposed project's environmental impacts relative to other regulations including the Clean Air Act, other sections of the Clean Water Act, Endangered Species Act and the Fish and Wildlife Coordination Act. In accordance with NEPA, the FEIS evaluates practicable alternatives for the USACE's decision making process. As required by NEPA, the USACE also analyzes the “no action” alternative as a baseline for gauging potential impacts.

Copies of the FEIS may be obtained by contacting USACE Fort Worth District Regulatory Branch at (817) 886-1731 or from Three Oaks Mine EIS link found at the bottom of the Fort Worth District USACE Internet home page at http://www.swf.usace.army.mil.

Copies of the FEIS are also available for inspection at the locations identified below:

(1) Bastrop City Hall, 902 Main Street, Bastrop, TX 78602.

(2) Lexington City Hall, PO Box 56, Lexington, TX 78947.

(3) Austin City Hall, 124 West 8th Street, PO Box 1088, Austin, TX 78767.

(4) Rockdale City Hall, PO Box 586, Rockdale, TX 76567.

(5) Elgin City Hall, PO Box 591, Elgin, TX 78621.

(6) Giddings City Hall, 118 E. Richmond Street, Giddings, TX 78942.

(7) Lee County Courthouse, PO Box 390, Giddings, TX 78942.

(8) Milam County Courthouse, PO Box 1008, Cameron, TX 76520.

(9) Bastrop County Courthouse, 804 Pecan Street, Bastrop, TX 78602.

(10) Travis County Courthouse, 1000 Guadalupe Street, PO Box 1748, Austin, TX 78767.

(11) City of Austin Library—Milwood Branch, 12500 Amherst Drive, Austin, TX 78727.

(12) City of Austin Library—John Henry Faulk Branch, 800 Guadalupe, Austin, TX 78701.

(13) City of Austin Library—Will Hampton at Oak Hill Branch, 5125 Convict Hill Road, Austin, TX 78749.

(14) City of Bastrop Public Library, 1100 Church Street, Bastrop, TX 78602.

(15) City of Elgin Public Library, 404 North Main Street, Elgin, TX 78621.

(16) City of Giddings Public Library, 177 South Madison Street, Giddings, TX 78942.

(17) City of Rockdale Public Library, 201 Ackerman Street, Rockdale, TX 76567.

The Record of Decision (ROD) will be signed no sooner than 45 days after publication of the notice of availability in the Federal Register by the U.S. Environmental Protection Agency.

Wayne A. Lea,
Chief, Regulatory Branch.

[FR Doc. 03-11149 Filed 5-8-03; 8:45 am]

BILLING CODE 3710-20-M